FEDERAL COMMUNICATIONS COMMISSION

47 CFR Parts 2, 25 and 87

[ET Docket No. 02-305; FCC 02-261]

World Radiocommunication Conferences Concerning Frequency Bands Above 28 MHz

AGENCY: Federal Communications Commission.

ACTION: Proposed rule.

SUMMARY: In this document the Commission proposes to amend our rules in order to implement domestically various allocation decisions from several World Radiocommunication Conferences (“WRCs”) concerning the frequency bands between 28 MHz and 36 GHz and to otherwise update our rules in this frequency range. The following proposals are the most significant to non-Federal Government operations: implementing generic mobile-satellite service (“MSS”) allocations in the bands 1525-1559 MHz and 1626.5-1660.5 MHz (“L-band”); allocating the band 1164-1189 MHz to the radionavigation-satellite service (“RNSS”); and removing unused and limited fixed-satellite and broadcasting-satellite allocations from the band 2500-2690 MHz. In addition, at the request of the National Telecommunications and Information Administration (“NTIA”), the Commission has proposed various allocation changes for the space science services and the inter-satellite service (“ISS”), most of which involve spectrum primarily used by the Federal Government. These proposals would conform the Commission's rules to previous WRC agreements and are expected to provide significant benefits to the American public.

DATES: Written comments are due February 10, 2003, and reply comments are due March 10, 2003.

FOR FURTHER INFORMATION CONTACT: Tom Mooring, Office of Engineering and Technology, (202) 418-2450, TTY (202) 418-2989, e-mail: tmooring@fcc.gov.

ADDRESSES: Federal Communications Commission, 445 12th Street, SW., TW-A325, Washington, DC 20554.

SUPPLEMENTARY INFORMATION: This is a summary of the Commission's Notice of Proposed Rulemaking, ET Docket 02-305, FCC 02-261, adopted September 18, 2002, and released October 7, 2002. The full text of this document is available for inspection and copying during regular business hours in the FCC Reference Center (Room CY-A257), 445 12th Street, SW., Washington, DC 20554. The complete text of this document also may be purchased from the Commission's copy contractor, Qualex International, 445 12th Street, SW., Room, CY-B402, Washington, DC 20554. The full text may also be downloaded at: www.fcc.gov. Alternative formats are available to persons with disabilities by contacting Brian Millin at (202) 418-7426 or TTY (202) 418-7365.

Pursuant to §§ 1.415 and 1.419 of the Commission's rules, 47 CFR 1.415, 1.419, interested parties may file comments on or before February 10, 2003, and reply comments on or before March 10, 2003. Comments may be filed using the Commission's Electronic Comment Filing System (ECFS) or by filing paper copies. See Electronic Filing of Documents in Rulemaking Proceedings, 63 FR 24121 (1998), 63 FR 24121, May 1, 1998. Comments filed through the ECFS can be sent as an electronic file via the Internet to http://www.fcc.gov/e-file/ecfs.html. Generally, only one copy of an electronic submission must be filed. If multiple docket or rulemaking numbers appear in the caption of this proceeding, however, commenters must transmit one electronic copy of the comments to each docket or rulemaking number referenced in the caption. In completing the transmittal screen, commenters should include their full name, U.S. Postal Service mailing address, and the applicable docket or rulemaking number. Parties may also submit an electronic comment by Internet e-mail. To get filing instructions for e-mail comments, commenters should send an e-mail to ecfs@fcc.gov, and should include the following words in the body of the message, “get form <your e-mail address.” A sample form and directions will be sent in reply. Parties who choose to file by paper must file an original and four copies of each filing. If more than one docket or rulemaking number appear in the caption of this proceeding, commenters must submit two additional copies for each additional docket or rulemaking number.

All filings must be addressed to the Commission's Secretary, Office of the Secretary, Federal Communications Commission. Filings can be sent by hand or messenger delivery, by commercial overnight courier, or by first-class or overnight U.S. Postal Service mail (although we continue to experience delays in receiving U.S. Postal Service mail). The Commission's contractor, Vistronix, Inc., will receive hand-delivered or messenger-delivered paper filings for the Commission's Secretary at 236 Massachusetts Avenue, NE., Suite 110, Washington, DC 20002. The filing hours at this location are 8 a.m. to 7 p.m. All hand deliveries must be held together with rubber bands or fasteners. Any envelopes must be disposed of before entering the building. Commercial overnight mail (other than U.S. Postal Service Express Mail and Priority Mail) must be sent to 9300 East Hampton Drive, Capitol Heights, MD 20743. U.S. Postal Service first-class mail, Express Mail, and Priority Mail should be addressed to 445 12th Street, SW., Washington, DC 20554.

Summary of Notice of Proposed Rule Making

1. The Notice of Proposed Rulemaking (“NPRM”) proposes to provide for generic MSS allocations across the bands 1525-1559 MHz and 1626.5-1660.5 MHz. Specifically, we proposed to expand the primary allocation in the bands 1545-1549.5 MHz, 1558.5-1559 MHz, 1646.5-1651 MHz, and 1660-1660.5 MHz from the aeronautical mobile-satellite (route) service (“AMS(R)S”) to all services within the MSS while preserving the requirements of AMS(R)S. The effect of our proposal is that the bands 1545-1559 MHz and 1646.5-1660.5 MHz would be made available to all types of MSS communications on a primary basis, rather than segmented for specialized use. This action will permit more efficient use of this radio spectrum and will facilitate the expansion of MSS use globally. In addition, because the bands 1530-1544 MHz and 1626.5-1645.5 MHz are currently allocated to the maritime mobile-satellite service (“MMSS”) and the MSS on a co-primary basis, we proposed to remove superfluous MMSS allocations. We are also requesting comment on whether the secondary allocation for aeronautical telemetry should be removed from the band 1525-1535 MHz.

2. The Commission proposes to allocate the band 1164-1189 MHz to the RNSS for space-to-Earth (“downlink”) and space-to-space transmissions in order to accommodate a new civil global positioning system (“GPS”) signal. This action would permit the addition of a new GPS signal and support the safety-of-life requirements demanded by civil aviation. We also proposed to allocate the bands 1215-1240 MHz and 1559-1610 MHz, which are currently limited to RNSS downlinks, for RNSS space-to-space transmissions as well. This action would allow use of spaceborne RNSS receivers for scientific and commercial applications.

3. The Commission proposes to downgrade the primary flight test and radiolocation allocations to secondary status in the band 2320-2345 MHz because the Satellite Digital Audio Radio Service (“Satellite DARS”) has been brought into operation. We also propose to delete limited allocations for the fixed-satellite service (“FSS”) and the broadcasting-satellite service (“BSS”) from the band 2500-2690 MHz in order to remove allocations that are not compatible with two-way, point-to-multipoint fixed uses.

4. The Commission proposes to implement domestically various allocation decisions concerning the space science services and the ISS from several WRCs that have not previously been addressed by the Commission. These proposals deal with the following issues:

• Raising secondary allocations for the Earth exploration-satellite service (“EESS”) and the space research service (“SRS”) to primary status in 1035 megahertz of spectrum in eight frequency bands and to specify that these allocations are to used for active sensor operations (“EESS (active)” and “SRS (active)”): 1215-1240 MHz, 1240-1300 MHz, 5250-5255 MHz, 5255-5350 MHz, 8550-8650 MHz, 9500-9800 MHz, 13.4-13.75 GHz, and 17.2-17.3 GHz.

• Allocating 550 megahertz of additional spectrum to the EESS (active) and SRS (active) on a primary basis in the bands 13.25-13.4 GHz and 35.6-36 GHz. We would also change the primary footnote allocation for active spaceborne sensors in the band 35.5-35.6 GHz to a direct Table listing.

• Allocating 110 megahertz of additional spectrum to the EESS (active) on a primary basis in the band 5350-5460 MHz.

• Upgrading the allocation status of EESS uplinks and meteorological-satellite service (“METSAT”) uplinks in the band 401-403 MHz from secondary to primary.

• Allocating the band 410-420 MHz to the SRS on a primary basis for space-to-space transmissions.

• Allocating the band 7750-7850 MHz for METSAT downlinks on a primary basis, limited to non-geostationary satellite systems.

• Allocating the band 8400-8450 MHz for SRS downlinks from deep space on a secondary basis.

• Allocating the band 25.25-27.5 GHz to the ISS on a primary basis.

• Raising the secondary EESS allocation to primary status in the band 25.5-27 GHz and changing its directional indicator from space-to-space to space-to-Earth.

5. In addition, we proposed to: (1) Remove the primary ISS allocation from the band 32-32.3 GHz; (2) remove the secondary allocation for the aeronautical mobile-satellite (route) service (“AMS(R)S”) from the band 136-137 MHz; (3) more than double the size of the geographic area in New Mexico and Texas where amateur stations in the band 420-450 MHz would be limited in power and where spread spectrum radiolocation systems in the sub-band 420-435 MHz should not expect to be accommodated; (4) reflect NTIA's recent action, which specified that Federal Government wind profiler radar systems (“wind profilers”) will operate in the sub-band 448-450 MHz; (5) permit U.S. flagged ships to use more spectrum-efficient equipment for on-board mobile radiotelephony communications in areas outside the territorial waters of the United States; (6) remove unused allocations for the International Fixed Public Radiocommunication Services from the bands 2.1-2.2 GHz and 10.7-11.7 GHz; and (7) allocate the band 14-14.5 GHz to the mobile-satellite (Earth-to-space) except aeronautical mobile-satellite service on a secondary basis. The Commission also proposes to make numerous ministerial amendments to part 2 of our rules.

Initial Regulatory Flexibility Certification

6. The Regulatory Flexibility Act of 1980, as amended (“RFA”),¹ requires that an initial regulatory analysis be prepared for notice-and-comment rule making proceedings, unless the agency certifies that the “the rule will not, if promulgated, have a significant economic impact on a substantial number of small entities.² The RFA generally defines the term “small entity” as having the same meaning as the terms “small business,” “small organization,” and “small governmental jurisdiction.”³ In addition, the term “small business” has the same meaning as the term “small business concern” under the Small Business Act.⁴ A “small business concern” is one which: (1) Is independently owned and operated; (2) is not dominant in its field of operation; and (3) satisfies any additional criteria established by the Small Business Administration (“SBA”).⁵

¹ See U.S.C. 603. The RFA, see 5 U.S.C. 601-612, has been amended by the Small Business Regulatory Enforcement Fairness Act of 1996 (SBREFA), Pub. L. 104-121, Title II, 110 Stat. 857 (1996).

² 5 U.S.C. 605(b).

³ 5 U.S.C. 601(6).

⁴ 5 U.S.C. 601(3) (incorporating by reference the definition of “small business concern” in the Small Business Act, 15 U.S.C. 632). Pursuant to 5 U.S.C. 601(3), the statutory definition of a small business applies “unless an agency, after consultation with the Office of Advocacy of the Small Business Administration and after opportunity for public comment, establishes one or more definitions of such term which are appropriate to the activities of the agency and publishes such definition(s) in the Federal Register.”

⁵ 15 U.S.C. 632.

7. The Notice of Proposed Rule Making (“NPRM”) proposed to amend parts 2, 25, and 87 of the Commission's rules in order to implement domestically various allocation decisions from several World Radiocommunication Conferences concerning the frequency bands between 28 MHz and 36 GHz and to otherwise update our rules in this frequency range. These allocation proposals mainly affect Federal agencies.⁶ Those proposals that are most significant to non-Federal Government operations are: (1) Implementing generic L-band MSS allocations; (2) allocating the band 1164-1189 MHz to the RNSS; and (3) removing unused and limited FSS and BSS allocations from the band 2500-2690 MHz. Concerning L-band MSS, currently there is only one U.S. licensee. Concerning the RNSS allocation, only one or at most a few large companies are expected to be able to launch and maintain RNSS systems, which are expensive. The last proposal merely deletes unused allocations, with no direct effect on licensees or regulatees.

⁶ See paras. 5-6, supra.

8. We have determined that the rules proposed in the NPRM will not, if promulgated, have a significant economic impact on a substantial number of small entities. Accordingly, we hereby certify that this NPRM will not have a significant economic impact on a substantial number of small entities. The Commission's Consumer and Governmental Affairs Bureau, Reference Information Center, will send a copy of this NPRM, including this certification, to the Chief Counsel for Advocacy of the Small Business Administration.⁷

⁷ 5 U.S.C. 605(b).

9. Pursuant to sections 1, 4, 301, 302(a), 303, 307, 309, 316, 332, 334, and 336 of the Communications Act of 1934, as amended, 47 U.S.C. 151, 154, 301, 302(a), 303, 307, 309, 316, 332, 334, and 336, the notice of proposed rule making is adopted.

List of Subjects

47 CFR Part 2

Communications equipment, Radio.

47 CFR Part 25

Communications equipment.

47 CFR Part 87

Air transportation, Communications equipment.

Federal Communications Commission.
William F. Caton,
Deputy Secretary.

Proposed Rules

For the reasons discussed in the preamble, the Federal Communications Commission proposes to amend 47 CFR parts 2, 25, and 87 as follows:

PART 2—FREQUENCY ALLOCATIONS AND RADIO TREATY MATTERS; GENERAL RULES AND REGULATIONS

1. The authority citation for part 2 continues to read as follows:

Authority: 47 U.S.C. 154, 302a, 303, and 336, unless otherwise noted.

2. Section 2.1 is revised by adding the following definitions in alphabetic order:

§ 2.1 Terms and definitions.

* * * * *

Differential Global Positioning System (DGPS) Station. A differential RNSS station for specific augmentation of GPS.

Differential Radionavigation Satellite Service (Differential RNSS) Station. A station used for the transmission of differential correction data and related information (such as ionospheric data and RNSS satellite integrity information) as an augmentation to an RNSS system for the purpose of improved navigation accuracy.

* * * * *

3. Section 2.106, the Table of Frequency Allocations, is amended as follows:

a. Revise pages 22-75.

b. In the list of International Footnotes under heading II., remove footnotes 591, 599A, 599B, 608A, 608B, 647B, 669, and 792A.

c. In the list of United States (US) Footnotes, revise US7, US48, US110, US217, US244, US246, US262, US276, US277, US278, US310, US316, US320, US328, and US342; remove US10, US54, US228, US269, US318, and US322; and add footnotes USxxx, USyyy, and USzzz.

d. In the list of Non-Federal Government (NG) Footnotes, remove NG23, NG47, NG63, NG101, and NG102; and revise NG41.

e. In the list of Federal Government (G) Footnotes, revise footnote G2 and add footnote G129.

§ 2.106 Table of Frequency Allocations.

The revisions and additions read as follows:

* * * * *

BILLING CODE 6712-01-P

BILLING CODE 6712-01-C

* * * * *

United States (US) Footnotes

* * * * *

US7 In the band 420-450 MHz and within the following areas, the peak envelope power output of a transmitter employed in the amateur service shall not exceed 50 watts, unless expressly authorized by the Commission after mutual agreement, on a case-by-case basis, between the Federal Communications Commission Engineer in Charge at the applicable district office and the military area frequency coordinator at the applicable military base. For areas (e) through (j), the appropriate military coordinator is located at Peterson AFB, CO.

(a) The entire State of New Mexico and Texas west of longitude 104°00′ West;

(b) The entire State of Florida including the Key West area and the areas enclosed within a 322-kilometer (200-mile) radius of Patrick Air Force Base, Florida (latitude 28°21′ North, longitude 80°43′ West), and within a 322-kilometer (200-mile) radius of Eglin Air Force Base, Florida (latitude 30°30′ North, longitude 86°30′ West);

(c) The entire State of Arizona;

(d) Those portions of California and Nevada south of latitude 37o 10' North, and the areas enclosed within a 322-kilometer (200-mile) radius of the Pacific Missile Test Center, Point Mugu, California (latitude 34°09′ North, longitude 119°11′ West).

(e) In the State of Massachusetts within a 160-kilometer (100-mile) radius around locations at Otis Air Force Base, Massachusetts (latitude 41°45′ North, longitude 70°32′ West).

(f) In the State of California within a 240-kilometer (150-mile) radius around locations at Beale Air Force Base, California (latitude 39°08′ North, longitude 121°26′ West).

(g) In the State of Alaska within a 160-kilometer (100-mile) radius of Clear, Alaska (latitude 64°17′ North, longitude 149°10′ West).

(h) In the State of North Dakota within a 160-kilometer (100-mile) radius of Concrete, North Dakota (latitude 48°43′ North, longitude 97°54′ West).

(i) In the States of Alabama, Georgia and South Carolina within a 200-kilometer (124-mile) radius of Warner Robins Air Force Base, Georgia (latitude 32°38′ North, longitude 83°35′ West).

(j) In the State of Texas within a 200-kilometer (124-mile) radius of Goodfellow Air Force Base, Texas (latitude 31°25′ North, longitude 100°24′ West).

* * * * *

US48 In the band 9000-9200 MHz, the use of the radiolocation service by non-Federal Government licensees may be authorized on the condition that harmful interference is not caused to the aeronautical radionavigation service or to the Federal Government radiolocation service.

* * * * *

US110 In the band 9200-9300 MHz, the use of the radiolocation service by non-Federal Government licensees may be authorized on the condition that harmful interference is not caused to the maritime radionavigation service or to the Federal Government radiolocation service.

* * * * *

US217 In the band 420-450 MHz, pulse-ranging radiolocation systems may be authorized for Federal and non-Federal Government use along the shorelines of the contiguous 48 States and Alaska. In the sub-band 420-435 MHz, spread spectrum radiolocation systems may be authorized for Federal and non-Federal Government use within the contiguous 48 States and Alaska. All stations operating in accordance with this provision shall be secondary to stations operating in accordance with the Table of Frequency Allocations. Authorizations shall be granted on a case-by-case basis; however, operations proposed to be located within the following geographic areas should not expect to be accommodated:

(a) The entire State of New Mexico and Texas west of longitude 104°00′ West;

(b) The entire State of Florida including the Key West area and the areas enclosed within a 322-kilometer (200-mile) radius of Patrick Air Force Base, Florida (latitude 28°21′ North, longitude 80°43′ West), and within a 322-kilometer (200-mile) radius of Eglin Air Force Base, Florida (latitude 30°30′ North, longitude 86°30′ West);

(c) The entire State of Arizona;

(d) Those portions of California and Nevada south of latitude 37°10′ North, and the areas enclosed within a 322-kilometer (200-mile) radius of the Pacific Missile Test Center, Point Mugu, California (latitude 34°09′ North, longitude 119°11′ West).

(e) In the State of Massachusetts within a 160-kilometer (100-mile) radius around locations at Otis Air Force Base, Massachusetts (latitude 41°45′ North, longitude 70°32′ West).

(f) In the State of California within a 240-kilometer (150-mile) radius around locations at Beale Air Force Base, California (latitude 39°08′ North, longitude 121°26′ West).

(g) In the State of Alaska within a 160-kilometer (100-mile) radius of Clear, Alaska (latitude 64°17′ North, longitude 149°10′ West).

(h) In the State of North Dakota within a 160-kilometer (100-mile) radius of Concrete, North Dakota (latitude 48°43′ North, longitude 97°54′ West).

(i) In the States of Alabama, Georgia and South Carolina within a 200-kilometer (124-mile) radius of Warner Robins Air Force Base, Georgia (latitude 32°38′ North, longitude 83°35′ West).

(j) In the State of Texas within a 200-kilometer (124-mile) radius of Goodfellow Air Force Base, Texas (latitude 31°25′ North, longitude 100°24′ West).

All stations operating in accordance with this provision will be secondary to stations operating in accordance with the Table of Frequency Allocations.

* * * * *

US244 The band 136-137 MHz is allocated to the non-Federal Government aeronautical mobile (R) service on a primary basis, and is subject to pertinent international treaties and agreements. The frequencies 136, 136.025, 136.05, 136.075, 136.1, 136.125, 136.15, 136.175, 136.2, 136.225, 136.25, 136.275, 136.3, 136.325, 136.35, 136.375, 136.4, 136.425, 136.45, and 136.475 MHz are available on a shared basis to the Federal Aviation Administration for air traffic control purposes, such as automatic weather observation stations (AWOS), automatic terminal information services (ATIS), flight information services-broadcast (FIS-B), and airport control tower communications.

* * * * *

US246 No station shall be authorized to transmit in the following bands: 73-74.6 MHz, 608-614 MHz, except for medical telemetry equipment¹, 1400-1427 MHz, 1660.5-1668.4 MHz, 2690-2700 MHz, 4990-5000 MHz, 10.68-10.7 GHz, 15.35-15.4 GHz, 23.6-24 GHz, 31.3-31.8 GHz, 50.2-50.4 GHz, 52.6-54.25 GHz, 86-92 GHz, 100-102 GHz, 105-116 GHz, 164-168 GHz, 182-185 GHz, 217-231 GHz.

¹ Medical telemetry equipment shall not cause harmful interference to radio astronomy operations in the band 608-614 MHz and shall be coordinated under the requirements found in 47 CFR 95.1119.

* * * * *

US262 The use of the band 31.8-32.3 GHz by the space research service (deep space) (space-to-Earth) and of the band 34.2-34.7 GHz by the space research service (deep space) (Earth-to-space) are limited to Goldstone, California.

* * * * *

US276 Except as otherwise provided for herein, use of the band 2360-2385 MHz by the mobile service is limited to aeronautical telemetering and associated telecommand operations for flight testing of manned or unmanned aircraft, missiles or major components thereof. The following three frequencies are shared on a co-equal basis by Government and non-Government stations for telemetering and associated telecommand operations of expendable and reusable launch vehicles whether or not such operations involve flight testing: 2364.5 MHz, 2370.5 MHz, and 2382.5 MHz. All other mobile telemetering uses shall be secondary to the above uses.

US277 The band 10.6-10.68 GHz is also allocated on a primary basis to the radio astronomy service. However, the radio astronomy service shall not receive protection from stations in the fixed service which are licensed to operate in the one hundred most populous urbanized areas as defined by the 1990 U.S. Census.

US278 In the bands 22.55-23.55 GHz and 32.3-33 GHz, non-geostationary inter-satellite links may operate on a secondary basis to geostationary inter-satellite links.

* * * * *

US310 In the band 14.896-15.121 GHz, non-Federal Government space stations in the space research service may be authorized on a secondary basis to transmit to Tracking and Data Relay Satellites subject to such conditions as may be applied on a case-by-case basis. Such transmissions shall not cause harmful interference to authorized Federal Government stations. The power flux-density produced by such non-Federal Government stations at the Earth's surface in any 4 kHz band for all conditions and methods of modulation shall not exceed:

−148 dB(W/m²) for 0° < * ≤ 5°

−148 + (*−5)/2 dB(W/m²) for 5° < * ≤ 25°

−138 dB(W/m²) for 25° < * ≤ 90°

where * is the angle of arrival of the radio-frequency wave (degrees above the horizontal). These limits relate to the power flux-density and angles of arrival which would be obtained under free-space propagation conditions.

* * * * *

US316 The band 2900-3000 MHz is also allocated on a primary basis to the meteorological aids service. Operations in this service are limited to Federal Government Next Generation Weather Radar (NEXRAD) systems where accommodation in the 2700-2900 MHz band is not technically practical and are subject to coordination with existing authorized stations.

* * * * *

US320 The use of the bands 137-138 MHz, 148-150.05 MHz, and 400.15-401 MHz by the mobile-satellite service is limited to non-voice, non-geostationary satellite systems and may include satellite links between land earth stations at fixed locations.

* * * * *

US328 The band 2320-2345 MHz is also available for aeronautical telemetering and associated telecommand operations for flight testing of manned or unmanned aircraft, missiles or major components thereof on a secondary basis to the Satellite Digital Audio Radio Service.

* * * * *

US342 In making assignments to stations of other services to which the bands:

13360-13410 kHz,

37.5-38.25 MHz,

322-328.6 MHz,

1330-1400 MHz,

1610.6-1613.8 MHz,

1660-1660.5 MHz,

1668.4-1670 MHz,

3260-3267 MHz,

3332-3339 MHz,

3345.8-3352.5 MHz,

4825-4835 MHz,

4950-4990 MHz,

6650-6675.2 MHz,

14.47-14.5 GHz,

22.01-22.21 GHz,

22.21-22.5 GHz,

22.81-22.86 GHz,

23.07-23.12 GHz,

31.2-31.3 GHz,

36.43-36.5 GHz,

42.5-43.5 GHz,

48.94-49.04 GHz,

93.07-93.27 GHz,

97.88-98.08 GHz,

140.69-140.98 GHz,

144.68-144.98 GHz,

145.45-145.75 GHz,

146.82-147.12 GHz,

150-151 GHz,

174.42-175.02 GHz,

177-177.4 GHz,

178.2-178.6 GHz,

181-181.46 GHz,

186.2-186.6 GHz,

250-251 GHz,

257.5-258 GHz,

261-265 GHz,

262.24-262.76 GHz,

265-275 GHz

are allocated, all practicable steps shall be taken to protect the radio astronomy service from harmful interference. Emissions from spaceborne or airborne stations can be particularly serious sources of interference to the radio astronomy service (see Nos. 4.5 and 4.6 and Article 29 of the ITU Radio Regulations).

* * * * *

USxxx In the band 401-403 MHz, the non-Federal Government Earth exploration-satellite (Earth-to-space) and meteorological-satellite (Earth-to-space) services are limited to earth stations transmitting to Federal Government space stations.

USyyy The band 1164-1189 MHz is also allocated to the radionavigation-satellite service (space-to-Earth, space-to-space) on a primary basis. In this band, stations in the radionavigation-satellite service shall not cause harmful interference to, nor claim protection from, stations of the aeronautical radionavigation service.

USzzz In designing systems for the inter-satellite service in the band 32.3-33 GHz, for the radionavigation service in the band 32-33 GHz, and for the space research service (deep space) (space-to-Earth) in the band 31.8-32.3 GHz, all necessary measures shall be taken to prevent harmful interference between these services, bearing in mind the safety aspects of the radionavigation service.

* * * * *

Non-Federal Government (NG) Footnotes

* * * * *

NG41 Frequencies in the bands 3700-4200 MHz and 5925-6425 MHz, may also be assigned to stations in the international fixed public and international control services located in Puerto Rico, the U.S. Virgin Islands, and Navassa Island.

* * * * *

Federal Government (G) Footnotes

* * * * *

G2 In the bands 216-225, 420-450 (except as provided by US217 and G129) 890-902, 928-942, 1300-1400, 2310-2385, 2417-2450, 2700-2900, 5650-5925 and 9000-9200 MHz, the Government radiolocation service is limited to the military services.

* * * * *

G129 Government wind profilers are authorized to operate on a primary basis in the radiolocation service in the frequency band 448-450 MHz with an authorized bandwidth of no more than 2 MHz centered on 449 MHz, subject to the following conditions: (1) Wind profiler locations must be pre-coordinated with the military services to protect fixed military radars; and (2) wind profiler operations shall not cause harmful interference to, nor claim protection from, military mobile radiolocation stations that are engaged in critical national defense operations.

PART 25—SATELLITE COMMUNICATIONS

4. The authority citation for part 25 continues to read as follows:

Authority: 47 U.S.C. 701-744. Interprets or applies Sections 4, 301, 302, 303, 307, 309 and 332 of the Communications Act, as amended, 47 U.S.C. Sections 154, 301, 302, 303, 307, 309 and 332, unless otherwise noted.

5. Section 25.202 is amended by revising paragraph (a)(3) and adding paragraph (a)(4)(iii) to read as follows:

§ 25.202 Frequencies, frequency tolerance and emission limitations.

(a)(1) * * *

* * * * *

(3) The following frequencies are available for use by the non-voice, non-geostationary mobile-satellite service:

137-138 MHz: space-to-Earth

148-150.05 MHz: Earth-to-space

399.9-400.05 MHz: Earth-to-space

400.15-401 MHz: space-to-Earth

(4) * * *

(iii) The following frequencies are available for use by the L-band Mobile-Satellite Service:

1525-1559 MHz: space-to-Earth

1626.5-1660.5 MHz: Earth-to-space

The use of the frequencies 1544-1545 MHz and 1645.5-1646.5 MHz is limited to distress and safety communications.

* * * * *

PART 87—AVIATION SERVICES

6. The authority citation for part 87 continues to read as follows:

Authority: 48 Stat. 1066, 1082, as amended; 47 U.S.C. 154, 303, 307(e) unless otherwise noted. Interpret or apply 48 Stat. 1064-1068, 1081-1105, as amended; 47 U.S.C. 151-156, 301-609.

7. Section 87.303 is amended by revising paragraph (d)(1) to read as follows:

§ 87.303 Frequencies.

* * * * *

(d)(1) Frequencies in the bands 1435-1525 MHz and 2360-2385 MHz are assigned primarily for telemetry and telecommand operations associated with the flight testing of manned or unmanned aircraft and missiles, or their major components. The bands 1525-1535 MHz and 2310-2360 MHz are also available for these purposes on a secondary basis. Until January 1, 2007, flight test operations in the band 2385-2390 MHz may continue on a primary basis within 160 km of the nine sites listed in 47 CFR 2.106, footnote US363. Permissible uses of these bands include telemetry and telecommand transmissions associated with the launching and reentry into the Earth's atmosphere, as well as any incidental orbiting prior to reentry, of manned or unmanned objects undergoing flight tests. In the band 1435-1530 MHz, the following frequencies are shared with flight telemetry mobile stations: 1444.5, 1453.5, 1501.5, 1515.5, 1524.5, and 1525.5 MHz. In the band 2360-2390 MHz, the following frequencies may be assigned on a co-equal basis for telemetry and associated telecommand operations in fully operational or expendable and re-usable launch vehicles, whether or not such operations involve flight testing: 2364.5, 2370.5 and 2382.5 MHz. In the band 2360-2390 MHz, all other mobile telemetry uses are secondary to the above stated launch vehicle uses.

* * * * *

[FR Doc. 02-30898 Filed 12-9-02; 8:45 am]

BILLING CODE 6712-01-P